SMALL BUSINESS ADMINISTRATION

[Disaster Declaration #11939 and #11940]

Virginia Disaster #VA-00026

AGENCY: U.S. Small Business Administration.

ACTION: Notice.

SUMMARY: This is a notice of an Administrative declaration of a disaster for the Commonwealth of Virginia, dated 11/25/2009.

Incident: Severe Nor'easter coupled with the remnants of Hurricane Ida.

Incident Period: 11/12/2009 through 11/15/2009.

Effective Date: 11/25/2009.

Physical Loan Application Deadline Date: 01/25/2010.

Economic Injury (EIDL) Loan Application Deadline Date: 08/25/2010

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's disaster declaration, applications for disaster loans may be filed at the address listed above or other locally announced locations.

The following areas have been determined to be adversely affected by the disaster:

Primary Cities: Hampton City, Newport News City, Norfolk City, Virginia Beach City.

Contiguous Cities and Counties:

Virginia: Chesapeake City, James City, Poquoson City, Portsmouth City, York.

North Carolina: Currituck.

The Interest Rates are:

| Percent
For Physical Damage:
Homeowners With Credit Available Elsewhere | 5.125
Homeowners Without Credit Available Elsewhere | 2.562
Businesses With Credit Available Elsewhere | 6.000
Businesses Without Credit Available Elsewhere | 4.000
Non-Profit Organizations With Credit Available Elsewhere | 3.625
Non-Profit Organizations Without Credit Available Elsewhere | 3.000
For Economic Injury:
Businesses and Small Agricultural Cooperatives Without Credit Available Elsewhere | 4.000
Non-Profit Organizations Without Credit Available Elsewhere | 3.000

The number assigned to this disaster for physical damage is 119396 and for economic injury is 119400.

The States which received an EIDL Declaration # are Virginia, North Carolina.

(Catalog of Federal Domestic Assistance Numbers 59002 and 59008)

Dated: November 25, 2009.
Karen G. Mills,
Administrator.

[FR Doc. E9-28768 Filed 12-1-09; 8:45 am]

BILLING CODE 8025-01-P